DEPARTMENT OF ENERGY

Federal Energy Regulatory Commission

Combined Notice of Filings

Take notice that the Commission has received the following Natural Gas Pipeline Rate and Refund Report filings:

Filings Instituting Proceedings

Docket Number: PR18-87-001.

Applicants: ONEOK Field Services Company, L.L.C.

Description: Tariff filing per 284.123(b), (e)+(g): Revised Statement of Operating Conditions to be effective 11/1/2018;

Filed Date: 11/20/18.

Accession Number: 201811205196.

Comments Due: 5 p.m. ET 12/11/18.

284.123(g) Protests Due: 5 p.m. ET 12/11/18.

Docket Numbers: RP19-307-000.

Applicants: Black Hills Utility Holdings, Inc., Black Hills Energy Services Company.

Description: Joint Application for Temporary Waivers of Capacity Release, Regulations and Policies, et al. of Black Hills Utility, Holdings, Inc., et al. under RP19-307.

Filed Date: 11/20/18.

Accession Number: 20181120-5220.

Comments Due: 5 p.m. ET 11/29/18.

Docket Numbers: RP19-308-000.

Applicants: Alliance Pipeline L.P.

Description: § 4(d) Rate Filing: APL Nov2018 Delivery Point Cleanup, Filing to be effective 12/21/2018.

Filed Date: 11/21/18.

Accession Number: 20181121-5018.

Comments Due: 5 p.m. ET 12/3/18.

Docket Numbers: RP19-309-000.

Applicants: Columbia Gulf Transmission, LLC.

Description: § 4(d) Rate Filing: CGT Total Amendment Filing to be effective 11/25/2018.

Filed Date: 11/21/18.

Accession Number: 20181121-5095.

Comments Due: 5 p.m. ET 12/3/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 26, 2018.
Nathaniel J. Davis, Sr.,
Deputy Secretary.

[FR Doc. 2018-26056 Filed 11-29-18; 8:45 am]

BILLING CODE 6717-01-P